DEPARTMENT OF JUSTICE

Drug Enforcement Administration

In the Matter of James Jay Rodriguez, M.D.; Revocation of Registration

On or about October 31, 2000, the Deputy Assistant Administrator, Office of Diversion Control, Drug Enforcement Administration (DEA), issued an Order to Show Cause (OTSC) by certified mail to James Jay Rodriguez, M.D., 156 South Second Street, Selmer, Tennessee 38375, notifying him of an opportunity to show cause as to why the DEA should not revoke his DEA Certificate of Registration, BR4717370, pursuant to 21 U.S.C. 824(a)(3), and deny any pending applications for renewal of said registration, pursuant to 21 U.S.C. 824(a)(4) and 823(f), for the reason that, on December 20, 1999, the Tennessee Department of Health, Board of Medical Examiners (Board) issued an Order of Summary Suspension of License with respect to his state license to practice medicine. The order also notified Dr. Rodriguez that, should no request for hearing be filed within 30 days, the right to a hearing would be waived.

The OTSC was received at Dr. Rodriguez's address November 24, 2000, as indicated by the signed postal return receipt. To date, no response has been received from Dr. Rodriguez nor anyone purporting to represent him.

Therefore, the Administrator of the DEA, finding that (1) thirty days having passed since receipt of the Order to Show Cause, and (2) no request for a hearing having been received, concludes that Dr. Rodriguez is deemed to have waived his right to a hearing. Following a complete review of the investigate file in this matter, the Administrator now enters his final order without a hearing pursuant to 21 CFR 1301.43(d) and (e) and 1301.46 (2001).

The Administrator finds as follows. In a hearing on December 17, 1999, the Tennessee Department of Health, Board of Medical Examiners (Board), found inter alia that Dr. Rodriguez entered the Tennessee Medical Foundation on September 23, 1993, for the treatment of drug addiction; that Dr. Rodriguez left treatment March 4, 1994, against medical advice; that on June 1, 1994, the State Volunteer Insurance Company refused to renew Dr. Rodriguez's insurance, stating that he was a high risk because of his ongoing problems with alcohol; that in May 1998 Dr. Rodriguez wrote a letter to DEA requesting that this agency revoke this Schedule II privileges, stating that it was “difficult” for him to distinguish which patients were actually in pain and which were not in pain and in actual need of medications; that on July 16, 1999, Dr. Rodriguez was arrested on the charge of DUI, and the subsequent toxicology report indicated a blood alcohol level of .10% and trace amounts of phentermine, diazepam, nordiazepam, dihydrocodeinone, and trazodon; that on December 9, 1999, Tennessee State investigators interviewed Dr. Rodriguez at his office, and discovered him to be excessively physically nervous and mentally confused. The investigators further observed Dr. Rodriguez's office was in disarray, with large quantities of drugs observe, but not records available regarding the dispensing of drugs. The investigators found a similar state of disarray at Dr. Rodriguez's home. The Board concluded that the state investigators produced evidence of dangerous drugs with addictive effects, along with an open drug safe and a lack of records documenting the dispensing of such drug safe and a lack of records documenting the dispensing of such drugs. The Board specifically concluded that Dr. Rodriguez used dangerous drugs with addictive effects for his own addictions, as well as those of his patients.

As a result of these findings, the Board summarily suspended Dr. Rodriguez's license to practice medicine in Tennessee. The investigative file contains no evidence that Dr. Rodriguez's license has been reinstated. Therefore, the Administrator concludes that Dr. Rodriguez is not currently authorized to practice medicine in Tennessee, the State in which he maintains his DEA Certificate of Registration.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50570 (2000); Romeo J. Perez, M.D., 62 FR 16193 (1997); Demetris A. Green, M.D., 61 FR 60728 (1996); Dominick A. Ricci, M.D., 58 FR 51104 (1993).

In the instant case, the Administrator finds the Government has presented evidence demonstrating that Dr. Rodriguez is not authorized to practice medicine in Tennessee, and therefore, the Administrator infers that Dr. Rodriguez is also not authorized to handle controlled substances in Tennessee, the State in which he holds his DEA Certificate of Registration.

Accordingly, the Administrator of the Drug Enforcement Administration, pursuant to the authority vested in him by 21 U.S.C. 823 and 824 and 28 CFR 0.100(b) and 0.104, hereby orders that the DEA Certificate of Registration BR4717370, previously issued to James Jay Rodriguez, M.D., be, and it hereby is, revoked. The Administrator hereby further orders that any pending applications for renewal or modification of said registration be and hereby are, denied. This order is effective November 16, 2001.

Dated: October 10, 2001.
Asa Hutchinson,
Administrator.

[FR Doc. 01-26185 Filed 10-17-01; 8:45 am]

BILLING CODE 4410-09-M